DEPARTMENT OF THE INTERIOR

National Park Service

National Register of Historic Places; Notification of Pending Nominations and Related Actions

Nominations for the following properties being considered for listing or related actions in the National Register were received by the National Park Service before November 12, 2005.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by December 22, 2005.

John W. Roberts,
Acting Chief, National Register/National Historic Landmarks Program.

CALIFORNIA

Ventura County

Gould, Thomas, Jr., House, 402 Lynn Dr., Ventura, 05001426

GEORGIA

Carroll County

Veal School, 2753 Old Columbus Rd., Roopville, 05001427

INDIANA

Lake County

Crown Point Courthouse Square Historic District (Boundary Adjustment), Roughly bounded by Robinson, East, Walnut, and Court Sts., Crown Point, 05001464

IOWA

Black Hawk County

Syndicate Block, 206, 208, 210, 212 and 216 Main St., La Porte City, 05001429

Marion County

Koelman, Philipus J. and Cornelia, House, 1005 Broadway, Pella, 05001430

MAINE

Cumberland County

Andrews, Lt. Robert, House, 428 S. Bridgton Rd., Bridgton, 05001440

Knox County

Williams, Timothy and Jane, House, 34 Old County Rd., Rockland, 05001441

Lincoln County

Parson's Bend, 100 Nelson Rd., Alna, 05001439

Washington County

Charlotte Pound, Charlotte Rd., 0.25 mi E of jct. with ME 214, Charlotte, 05001442

MARYLAND

Anne Arundel County

Avery, Capt. Salem, House, 1418 East West Shady Side Rd., Shady Side, 05001443

Kent County

Thornton, 10618 Perkins Hill Rd., Chestertown, 05001428

Washington County

Booneboro Historic District, Main St., Potomac St., St. Paul St., High St., Lakin Ave., Center St., Park Dr., Park Ln, Park View, Young Ave., Boonesboro, 05001431

MINNESOTA

Brown County

New Ulm Commercial Historic District, Roughly bounded by Minnesota St., bet 1st S and 3rd N Sts., New ulm, 05001438

Murray County

4-H Club Building, Murray County Fairgrounds, off Broadway Ave., Slayton, 05001436

MISSOURI

Buchanan County

McIntyre-Burri House, (St. Joseph MPS) 808 N. 24th St., Saint Joseph, 05001435

Franklin County

Fore Shoe Company Building, 601 E 6th St., Washington, 05001432

Greene County

Campbell Avenue Historic District (Boundary Increase I), (Springfield, Missouri MPS AD) 318 and 322-326 S. Campbell Avenue, Springfield, 05001433

St. Louis County

Hampton Park, 1108-1176 Center Dr., 1012-1259 Hampton Park Dr., 1140-1173 Hillside Dr., 7914-8045 Park Dr., 8000-8062 South Dr., Richmond Heights, 05001437

New Mount Sinai Cemetery, 8430 Gravois Rd., Affton, 05001434

NEW HAMPSHIRE

Cheshire County

Bradley, Stephen Rowe, House, 43 Westminster St., Walpole, 05001445

Merrimack County

Baptist New Meeting House, 461 Main St., New London, 05001446

Bridges, H. Styles, House, 21 Mound Rd., Concord, 05001444

NEW YORK

Lewis County

Osceola Town Hall, N. Ocseola Rd., Osceola, 05001454

Monroe County

Mendon Presbyterian Church, 3886 Rush—Mendon Rd., Mendon, 05001455

St. Lawrence County

Brick Chapel Church and Cemetery, 5501 Cty Rte 27, Canton, 05001461

Tompkins County

Hayt's Chapel and Schoolhouse, (Freedom Trail, Abolitionism, and African American Life in Central New York MPS) 1296-1298 Trumansburg Rd., Ithaca, 05001453

NORTH CAROLINA

Montgomery County

Mount Gilead Downtown Historic District, Main St. from First Ave. to 106 and 117 S. Main St., and the 100 blks of West Allenton St., Mt. Gilead, 05001447

Pitt County

Skinnerville—Greenville Heights Historic District, Roughly bounded by Pitt St., Martin Luther King Jr. Dr., Ward St., White St., Tyson St., Fairfax St., the Tar River, Greenville, 05001452

Rutherford County

East Main Street Historic District, Roughly along parts of Arlington St., Carolina Ave., N. Magnolia St., S. Magnolia St., E. Main St., McBrayer Court, Forest City, 05001450

Henrietta—Caroleen High School,

2527 NC 221A, Mooresboro, 05001451

Wake County

Blalock, Dr. Nathan M., House, 6741 Rock Service Station Rd., Raleigh, 05001449

Foquay Springs Teacherage, 602 E Academy St., Fuqay-Varina, 05001448

OREGON

Jackson County

Carpenter, A.S.V., and Helen Bundy House, 1677 Old Stage Rd., Central Point, 05001456

RHODE ISLAND

Newport County

Osborn-Bennett Historic District, 1137, 1148, 1168, 1188 Main Rd., Tiverton, 05001460

Providence County

Oriental Mills, 10 Admiral St., Providence, 05001463

SOUTH DAKOTA

Lawrence County

Mount Theodore Roosevelt Monument, Black Hill's National Forest, Deadwood, 05001457

TEXAS

Concho County

Eola School, 12119 FM 381, Eola, 05001458

Hidalgo County

Oblate Park Historic District, (Mission, Hidalgo County MPS) Roughly bounded by Doherty, Keralum, W. 16th St. and W. 10th St., Mission, 05001459

Starr County

Yzaquirre—Longoria House, (Rio Grande City, Starr County, Texas MPS) 107 W. Water St., Rio Grande, 05001462

A request for a move has been made for the following resource:

INDIANA

Allen County

Wabash Railroad Depot, 530 State St., New Haven, 0300146

[FR Doc. E5-6960 Filed 12-6-05; 8:45 am]

BILLING CODE 4312-51-P